DEPARTMENT OF ENERGY

Environmental Management Site-Specific Advisory Board, Oak Ridge Reservation

AGENCY: Department of Energy.

ACTION: Notice of cancellation of open meeting.

SUMMARY: This notice announces the cancellation of the January 12, 2011, meeting of the Environmental Management Site-Specific Advisory Board (EM SSAB), Oak Ridge Reservation. The Federal Advisory Committee Act (Pub. L. 92-463, 86 Stat. 770) requires that public notice of this meeting cancellation be announced in the Federal Register. The next regular meeting will be held on February 9, 2011.

FOR FURTHER INFORMATION CONTACT: Patricia J. Halsey, Federal Coordinator, Department of Energy Oak Ridge Operations Office, P.O. Box 2001, EM-90, Oak Ridge, TN 37831. Phone (865) 576-4025; Fax (865) 576-2347 or e-mail: halseypj@oro.doe.gov or check the Web site at http://www.oakridge.doe.gov/em/ssab.

Issued at Washington, DC, on January 6, 2011.
LaTanya R. Butler,
Acting Deputy Committee Management Officer.

[FR Doc. 2011-339 Filed 1-6-11; 4:15 pm]

BILLING CODE 6405-01-P